DEPARTMENT OF COMMERCE

National Oceanic and Atmospheric Administration

RIN 0648-XV63

Endangered Species; File Nos. 15112 and 13307-02

AGENCY: National Marine Fisheries Service (NMFS), National Oceanic and Atmospheric Administration (NOAA), Commerce.

ACTION: Notice; receipt of application and application for modification.

SUMMARY: Notice is hereby given that NMFS Northeast Fisheries Science Center, Woods Hole, MA, has applied in due form for a permit to take loggerhead (Caretta caretta), leatherback (Dermochelys coriacea), Kemp's ridley (Lepidochelys kempii), green (Chelonia mydas), and hawksbill (Eretmochelys imbricata) sea turtles for purposes of scientific research. Kristen Hart, Ph.D., USGS, Davie, FL has applied for a modification to scientific research Permit No. 13307-01 to take green sea turtles.

DATES: Written, telefaxed, or e-mail comments must be received on or before May 3, 2010.

ADDRESSES: The applications and related documents are available for review by selecting “Records Open for Public Comment” from the Features box on the Applications and Permits for Protected Species (APPS) home page, https://apps.nmfs.noaa.gov, and then selecting File No. 15112 or 13307-02 from the list of available applications.

These documents are also available upon written request or by appointment in the following offices: Permits, Conservation and Education Division, Office of Protected Resources, NMFS, 1315 East-West Highway, Room 13705, Silver Spring, MD 20910; phone (301) 713-2289; fax (301) 713-0376; and

Southeast Region, NMFS, 263 13th Avenue South, Saint Petersburg, Florida 33701; phone (727) 824-5312; fax (727) 824-5309.

Written comments on these applications should be submitted to the Chief, Permits, Conservation and Education Division, at the address listed above. Comments may also be submitted by facsimile to (301) 713-0376, or by email to NMFS.Pr1Comments@noaa.gov. Please include the File No. in the subject line of the comment.

Those individuals requesting a public hearing should submit a written request to the Chief, Permits, Conservation and Education Division at the address listed above. The request should set forth the specific reasons why a hearing on the application would be appropriate.

FOR FURTHER INFORMATION CONTACT: Kate Swails or Amy Hapeman, (301) 713-2289.

SUPPLEMENTARY INFORMATION: The subject permit and modification are requested under the authority of the Endangered Species Act of 1973, as amended (ESA; 16 U.S.C. 1531 et seq.) and the regulations governing the taking, importing, and exporting of endangered and threatened species (50 CFR 222-226).

File No. 15112: The purpose of the research is to determine the size and composition of populations of sea turtles found in the commercial fishing areas of the Northwest Atlantic Ocean. The research would contribute to the understanding of the pelagic ecology of these species and allow more reliable assessments of commercial fishery impacts. Annually up to 130 loggerhead, 70 Kemp's ridley, 50 green, 10 hawksbill, and 50 leatherback sea turtles caught in commercial fisheries would be measured, flipper tagged, tissue sampled, and released. The permit would be issued for five years.

File No. 13307-02: Dr. Hart is authorized to capture up to 30 green, 20 hawksbill, and 20 loggerhead sea turtles annually. Turtles may be weighed, measured, flipper tagged, PIT tagged, blood sampled, tissue sampled, fecal sampled, and lavaged. A subset of turtles may be tagged with a satellite tag or acoustic transmitter or a combination of both. This research addresses fine-scale temporal and spatial patterns of sea turtle habitat use, ecology, and genetic origin within the Dry Tortugas National Park. Dr. Hart proposes to increase the number of green sea turtles that she captures to 80 per year due to the high rate of recent capture success. The modification would be valid until the permit expires on June 30, 2013.

Dated: March 29, 2010.
P. Michael Payne,
Chief, Permits, Conservation and Education Division, Office of Protected Resources, National Marine Fisheries Service.

[FR Doc. 2010-7350 Filed 3-31-10; 8:45 am]

BILLING CODE 3510-22-S